DEPARTMENT OF HEALTH AND HUMAN SERVICES

Administration for Children and Families

Submission for OMB Review; Comment Request

Title: Supporting Healthy Marriage (SHM) Demonstration and Evaluation Project: 12-month Follow-up and Implementation Research Data Collection.

OMB No.: New Collection.

The Administration for Children and Families (ACF), U.S. Department of Health and Human Services, is conducting a demonstration and evaluation called the Supporting Healthy Marriage (SHM) project. SHM is a test of marriage education demonstration programs in eight separate locations that will aim to enroll up to 1,000 couples per location, up to 500 couples participating in SHM programs and 500 control group couples.

SHM is designed to inform program operators and policymakers of the most effective ways to help low-income married couples strengthen and maintain healthy marriages. In particular, the project will measure the effectiveness of marriage education programs by randomly assigning eligible volunteer couples to SHM program groups and control groups.

This data collection request includes three components. First, a survey will be administered to couples 12 months after they are enrolled in the program. The survey is designed to assess the effects of the SHM program on marital status and stability, quality of relationship with spouse, marital expectations and ideals, marital satisfaction, participation in services, parenting outcomes, child outcomes, parental well-being, employment, income, material hardship, and social support characteristics of study participants assigned to both the program and control groups. Second, survey data will be complemented by videotaped observations of couple, co-parenting, and parent-child interactions with a subset of intact and separated couples at the 12-month follow-up. Third, qualitative data will be collected through a process and implementation study in each of the eight SHM demonstration programs across the country.

These data will complement the information gathered by the SHM baseline data collection (OMB Control No. 0970-0299). The information collected at the 12-month follow-up will allow the research team to examine the effects of SHM services on outcomes of interest and to identify mechanisms that might account for these effects. The process and implementation research will consist of a qualitative component that will help ACF to better understand the results from the impact analysis as well as how to replicate programs that prove to be successful.

Respondents: Low-income married couples with children.

Annual Burden Estimates
Instrument | Annual number of respondents | Number of responses per respondent | Average burden hours per response | Estimated annual burden hours
12-month survey | 10,240 | 1 | 0.83 | 8,499.2
12-month observational study (intact couples) | 3,200 | 1 | 0.68 | 2,176
12-month observational study (separated couples) | 160 | 1 | 0.17 | 27.2
12-month observational study (children of intact couples) | 1,600 | 1 | 0.33 | 528
12-month observational study (children of separated couples) | 160 | 1 | 0.17 | 27.2
The process and implementation field research guide | 504 | 1 | 1 | 504

Estimated Total Annual Burden Hours: 11,761.6.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: November 29, 2007.
Brendan C. Kelly,
OPRE Reports Clearance Officer.

[FR Doc. 07-5978 Filed 12-7-07; 8:45 am]

BILLING CODE 4184-01-M